DEPARTMENT OF HEALTH AND HUMAN SERVICES

Administration for Community Living

Agency Information Collection Activities; Submission for OMB Review; Comment Request; Redesign of Existing Data Collection; National Longitudinal Survey of Older Americans Act Participants (NLSOAAP)

AGENCY: Administration for Community Living, HHS.

ACTION: Notice.

SUMMARY: The Administration for Community Living (ACL) is announcing that the proposed collection of information listed below has been submitted to the Office of Management and Budget (OMB) for review and clearance as required under the Paperwork Reduction Act of 1995 (the PRA). This 30-Day notice collects comments on a proposed revision to an existing data collection related to the National Survey of Older Americans Act Participants (NSOAAP).

DATES: Submit written comments on the collection of information by March 22, 2018.

ADDRESSES: Submit written comments on the collection of information by fax 202-395-5806 or by email to OIRA_submission@omb.eop.gov, Attn: OMB Desk Officer for ACL.

FOR FURTHER INFORMATION CONTACT: Heather Menne at 202-795-7733 or Heather.Menne@acl.hhs.gov.

SUPPLEMENTARY INFORMATION: In compliance with Section 44 U.S.C. 3507, ACL has submitted the following proposed collection of information to OMB for review and clearance.

ACL is requesting approval for three years for a redesign of an existing data collection (OMB Control Number: 0985-0023).

The National Longitudinal Survey of Older Americans Act (OAA) Participants (NLSOAAP) information collection will include consumer assessment surveys for the Congregate and Home-delivered meal nutrition programs; Case Management, Homemaker, and Transportation Services; and the National Family Caregiver Support Program. This survey builds on earlier national pilot studies and surveys, as well as performance measurement tools developed by ACL grantees in the Performance Outcomes Measures Project (POMP). Changes identified as a result of these initiatives, public comment, and the input from an expert panel (i.e., comprised of gerontologists, survey methodologists, and OAA program experts), are included in this proposed redesign of an existing data collection. This information will be used by ACL to track performance outcome measures; support budget requests; comply with the GPRA Modernization Act of 2010 (GPRAMA) reporting requirements; provide national benchmark information; and inform program development and management initiatives.

This proposed collection is a revision that will replace the currently approved version (OMB Control Number: 0985-0023) by transitioning from a cross-sectional survey to a longitudinal survey. The current National Survey of Older Americans Act Participants (NSOAAP), an exclusively cross-sectional survey, can transition to a longitudinal information collection component by establishing a baseline cohort and conducting follow-up interviews with that cohort at specified time intervals. A baseline cohort can be selected in the same manner as in prior cycles of the cross-sectional NSOAAP. Area Agencies on Aging (AAAs) would be selected with a probability proportional to their size, with some large AAAs sampled with certainty.

Random samples of clients within each selected AAA will be sampled from the agencies' client lists. However, in a change from current procedures, the target sample size would be increased from current standards (n = 6000) to account for attrition of individuals over time. For the duration of the longitudinal cohort analysis, the same sample of AAAs and clients should be maintained to preserve the longitudinal nature of the study. Three strategies are key for transforming the current survey into a longitudinal study, while preserving the ability to produce nationally representative cross-sectional estimates of client characteristics at each wave. The three strategies include: (1) A higher initial sample size (n = 6600), (2) an intensive operational campaign to keep track of respondents over time, and (3) limiting the number of waves for each cohort study (e.g., three waves are proposed).

Comments in Response to the 60 Day Federal Register Notice

A 60-Day notice was published in the Federal Register in Vol. 82, No. 185, Pages 44800-44802, on September 26, 2017 announcing that ACL was requesting approval of a proposed redesign of an existing data collection extension with modifications of a currently approved data collection. ACL received comments from sixty-four (64) organizations and 15 individuals about the Redesigned National Survey of Older Americans Act Participants (NSOAAP). ACL reviewed all of the comments. Two (2) of the comments were deemed not relevant. The first referenced other data collections and not the NSOAAP (i.e., Census), and the other was commentary without reference to the NSOAAP.

The majority of the comments that ACL received requested improved methodology for collecting gender identity (e.g., adding questions to understand gender identity/transgender status). ACL plans to conduct cognitive testing of questions in the redesigned information collection tool, including the gender question, to determine whether the questions are interpreted as intended. Based on the cognitive testing of the information collection tool, ACL will determine whether additional changes are necessary. Other public comments supported the: (a) Longitudinal methodology; (b) collection of data on sexual orientation; (c) inclusion of a rotating module on discrimination; and (d) limiting of burden on the Area Agencies on Aging (AAAs). Because these comments were in support of the proposed information collection, no response is needed.

Burden Estimates

Descriptions of previous National Surveys of OAA Participants can be found under the section on Performance Outcomes on ACL's website at: https://www.acl.gov/programs/performance-older-americans-act-programs. Copies of the survey instruments and data from previous National Surveys of OAA Participants can be found and queried using the AGing Integrated Database (AGID) at https://agid.acl.gov/. The proposed revisions for the National Survey of Older Americans Act Participants may be found on the ACL website at: https://www.acl.gov/about-acl/public-input.

The estimated average hour burden per respondent for the Redesigned NSOAAP will change from the 0.80 hour estimate in 2017 to 0.71 hours. This decrease is due to the proposed change of Area Agencies on Aging only providing client lists once at the start of the three years of data collection (compared to annually in the current cross-sectional data collection). ACL estimates the burden of this revised collection of information as follows:

Table—Estimated Annualized Burden Hours
Respondent/data collection activity | Number of respondents | Responses per respondent | Average hours per response | Annual burden hours
Baseline
Area Agency on Aging: Respondent selection process | 250 | 1 | 4.0 | 1,000
Service Recipients (i.e., Case Management; Congregate Nutrition; Home-delivered Nutrition; Homemaker; Transportation) | 4,400 | 1 | .6667 | 2,933
National Family Caregiver Support Program Clients | 2,200 | 1 | .6667 | 1,467
Year 2
Area Agency on Aging: Respondent selection process | 0 | 0 | 0 | 0
Service Recipients (i.e., Case Management; Congregate Nutrition; Home-delivered Nutrition; Homemaker; Transportation) | 4,200 | 1 | .6667 | 2,800
National Family Caregiver Support Program Clients | 2,100 | 1 | .6667 | 1,400
Year 3
Area Agency on Aging: Respondent selection process | 0 | 0 | 0 | 0
Service Recipients (i.e., Case Management; Congregate Nutrition; Home-delivered Nutrition; Homemaker; Transportation) | 4,000 | 1 | .6667 | 2,667
National Family Caregiver Support Program Clients | 2,000 | 1 | .6667 | 1,333
Total | 19,150 | Varies | .710 (weighted mean) | 13,600

Dated: February 13, 2018.
Mary Lazare,
Principal Deputy Administrator.

[FR Doc. 2018-03390 Filed 2-16-18; 8:45 am]

BILLING CODE 4154-01-P